DEPARTMENT OF LABOR

Agency Information Collection Activities; Submission for OMB Review; Comment Request; Nondiscrimination Compliance Information Reporting

ACTION: Notice of availability; request for comments.

SUMMARY: The Department of Labor (DOL) is submitting this Office of the Assistant Secretary for Administration and Management (OASAM)-sponsored information collection request (ICR) to the Office of Management and Budget (OMB) for review and approval in accordance with the Paperwork Reduction Act of 1995 (PRA). Public comments on the ICR are invited.

DATES: The OMB will consider all written comments that agency receives on or before February 16, 2021.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION:

The Department of Labor collects the Nondiscrimination Compliance Information Reporting data to help ensure a recipient of certain DOL Federal financial assistance programs does not discriminate in the administration, management, or operation of programs and activities. Information collections covered by this ICR include:

• A grant applicant providing assurance that the applicant is aware of and, as a condition of receipt of Federal financial assistance, agrees to comply with the assurance requirements;

• a DOL funds recipient maintaining a record of E.O. characteristics data and a log of any E.O. complaints for activities under an applicable DOL funded program;

• a person who believes a relevant E.O. requirement may have been violated filing a complaint with either the funds recipient or with the DOL Civil Rights Center;

• a State periodically filing a plan outlining administrative methods the State will use to ensure funds are not used in a discriminatory manner; and

• a DOL funds recipient posting required notices.

For additional substantive information about this ICR, see the related notice published in the Federal Register on November 12, 2020 (85 FR 71946).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OASAM.

Title of Collection: Certification and Qualification To Examine, Test, Operate Hoists and Perform Other Duties.

OMB Control Number: 1225-0077.

Affected Public: Businesses or other for-profits institutions.

Total Estimated Number of Respondents: 69,603.

Total Estimated Number of Responses: 56,425,453.

Total Estimated Annual Time Burden: 350,450 hours.

Total Estimated Annual Other Costs Burden: $0.

Authority: 44 U.S.C. 3507(a)(1)(D).

Dated: January 8, 2021.
Anthony May,
Management and Program Analyst.

[FR Doc. 2021-00699 Filed 1-13-21; 8:45 am]

BILLING CODE 4510-04-P